ENVIRONMENTAL PROTECTION AGENCY

[FRL-9924-27-Region-6]

Clean Water Act Section 303(d): Availability of List Decisions

AGENCY: Environmental Protection Agency (EPA).

ACTION: Notice of availability.

SUMMARY: This notice announces the availability of the Environmental Protection Agency (EPA's) decision to partially approve and proposal to partially disapprove Louisiana's 2014 Clean Water Act Section 303(d) submission of water quality limited segments and associated pollutants. EPA requests public comment on waters associated with the proposed disapproval and may, based on comment, amend its proposal prior to final action.

On February 26, 2015, EPA partially approved and proposed to partially disapprove Louisiana's 2014 Section 303(d) submission, or list. Specifically, EPA approved Louisiana's listing of 279 waterbody-pollutant combinations, and associated priority rankings. EPA proposed to disapprove Louisiana's decision not to list 43 water quality limited segments and associated pollutants constituting 93 waterbody-pollutant combinations. EPA also proposed to add these waterbody-pollutant combinations to the 2014 Section 303(d) list because applicable numeric water quality standards were not attained in these segments for one of the following parameters: Dissolved oxygen (marine criterion); turbidity; and minerals (individually or a combination of sulfates, chlorides, and/or total dissolved solids).

EPA is providing the public the opportunity to review its proposed additions to Louisiana's 2014 Section 303(d) list. EPA will consider and respond to public comments specific to the proposed addition of 43 segments and associated pollutants and may, based on comment, amend its proposed additions before finalizing Louisiana's 2014 Section 303(d) list. Comments not associated with the segments proposed for addition to the 2014 Section 303(d) list or associated with the 279 waterbody pollutant combinations previously approved by EPA are not solicited.

DATES: Comments must be submitted in writing to EPA on or before March 30, 2015.

ADDRESSES: Comments on the decisions should be sent to Evelyn Rosborough, Environmental Protection Specialist, Water Quality Protection Division, U.S. Environmental Protection Agency Region 6, 1445 Ross Ave., Dallas, TX 75202-2733, telephone (214) 665-7515, facsimile (214) 665-6490, or email: rosborough.evelyn@epa.gov. Oral comments will not be considered. Copies of the documents which explain the rationale for EPA's decisions and a list of the 43 water quality-limited segments and associated pollutant combinations EPA proposes for inclusion on Louisiana's Final 2014 Section 303(d) list can be obtained at EPA Region 6's Web site at: http://www.epa.gov/region6/water/npdes/tmdl/index.htm, or by writing or calling Ms. Rosborough at the above address. Underlying documents from the administrative record for these decisions are available for public inspection at the above address. Please contact Ms. Rosborough to schedule an inspection.

FOR FURTHER INFORMATION CONTACT: Evelyn Rosborough at (214) 665-7515.

SUPPLEMENTARY INFORMATION: Section 303(d) of the Clean Water Act (CWA) requires that each State identify those waters for which existing technology-based pollution controls are not stringent enough to attain or maintain State water quality standards. For those waters, States are required to establish Total Maximum Daily Loads (TMDLs) according to a priority ranking. EPA's Water Quality Planning and Management regulations include requirements related to the implementation of Section 303(d) of the CWA (40 CFR 130.7). The regulations require States to identify water quality-limited waters still requiring TMDLs every two years. The list of waters still needing TMDLs must also include priority rankings and must identify the waters targeted for TMDL development during the next two years (40 CFR 130.7).

Consistent with EPA's regulations, Louisiana submitted to EPA its listing decisions under Section 303(d) on August 19, 2014. On February 26, 2015, EPA approved Louisiana's listing of 279 waterbody-pollutant combinations and associated priority rankings. EPA proposed to disapprove Louisiana's decisions not to list 43 waterbodies. These waterbodies were proposed for addition by EPA because the applicable numeric water quality standards for dissolved oxygen; or turbidity; or mineral(s) were not attained in these segments. EPA solicits public comment on its identification of 43 additional waters and associated pollutants constituting 93 waterbody pollutant combinations for inclusion on Louisiana's Final 2014 Section 303(d) list.

Dated: February 26, 2015.
William K. Honker,
Director, Water Quality Protection Division.

[FR Doc. 2015-05444 Filed 3-9-15; 8:45 am]

BILLING CODE 6560-50-P